DEPARTMENT OF ENERGY

Federal Energy Regulatory Commission

[Docket No. RP03-314-001]

Northern Natural Gas Company; Notice of Compliance Filing

May 19, 2003.

Take notice that on May 12, 2003, Northern Natural Gas Company (Northern), tendered for filing in its FERC Gas Tariff, Fifth Revised Volume No. 1, Substitute Fifth Revised Sheet No. 291; Original Sheet No. 291A; and Fifth Revised Sheet No. 292, with an effective date of April 28, 2003.

Northern states that the filing is being made in compliance with the Commission's order issued on April 25, 2003 in Docket No. RP03-314-000 related to Northern's proposal to post a Critical Day notice no later than 2½ hours before any of the four NAESB nomination cycles.

Northern further states that copies of the filing have been mailed to each of its customers and interested State Commissions.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: May 27, 2003.

Magalie R. Salas,
Secretary.

[FR Doc. 03-12950 Filed 5-22-03; 8:45 am]

BILLING CODE 6717-01-P